DEPARTMENT OF HEALTH AND HUMAN SERVICES

Centers for Disease Control and Prevention

[60Day-19-19BDE; Docket No. CDC-2019-0051]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Maternal Mortality Review Information Application (MMRIA). MMRIA is a standardized data collection system that allows Maternal Mortality Review Committees (MMRCs) to abstract relevant data from a variety of sources, document committee decisions, and analyze data to better understand the contributing factors and preventability of maternal deaths in order to develop recommendations for prevention.

DATES: CDC must receive written comments on or before August 19, 2019.

ADDRESSES: You may submit comments, identified by Docket No. CDC-2019-0051 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

The Maternal Mortality Review Information Application (MMRIA) -New—National Center for Chronic Disease Prevention and Health Promotion (NCCDPHP), Centers for Disease Control and Prevention (CDC).

Background and Brief Description

The Centers for Disease Control and Prevention (CDC) seeks OMB approval to collect information through the Maternal Mortality Review Information Application (MMRIA) for three years. MMRIA is a standardized data collection system that allows Maternal Mortality Review Committees (MMRCs) across the country to abstract relevant data (clinical and non-clinical) from a variety of sources, document committee decisions, and analyze data in order to better understand the contributing factors and preventability of maternal deaths and thus to develop recommendations for prevention.

About 700 women die each year in the United States as a result of pregnancy or delivery complications, a chain of events initiated by pregnancy, or the aggravation of an unrelated condition by the physiologic effects of pregnancy. Furthermore, considerable racial disparities exist, with black women almost four times more likely to die from pregnancy-related complications than white women. Findings from MMRCs indicate that more than half of maternal deaths are preventable.

Maternal Mortality Review is a process by which a multidisciplinary committee at the jurisdiction level identifies and reviews cases of maternal death within one year of end of pregnancy. Members of MMRCs typically represent public health, obstetrics and gynecology, maternal-fetal medicine, nursing, midwifery, forensic pathology, mental and behavioral health, and other relevant stakeholders. Through a partnership among the MMRC, state vital records office, and epidemiologists, deaths among women of reproductive age are examined to determine if they occurred during pregnancy or within one year of the end of pregnancy (i.e., pregnancy-associated deaths). Through this process, potential cases of pregnancy-related deaths (i.e., maternal death from any cause related to or aggravated by pregnancy or its management) are then identified. Review committees access multiple sources of clinical and non-clinical information to understand the circumstances surrounding a maternal death in order to develop recommendations for action to prevent similar deaths in the future.

MMRIA is a standardized data collection system designed to collect timely, accurate, and standardized information about deaths to women during pregnancy and within one year of end of pregnancy, including opportunities for prevention, within and across jurisdictions. Data will be abstracted and entered into MMRIA from various sources, including death certificates, autopsy reports, birth certificates, prenatal care records, emergency room visit records, hospitalization records, records from other medical office visits, medical transport records, social and environmental profiles, mental health profiles, and informant interviews. Case narratives for committee reviews are auto-populated from the abstracted data entered into MMRIA to facilitate committee review, and committee decisions will also be entered into MMRIA.

The data collected in MMRIA will be used to facilitate an understanding of the drives of maternal mortality and complications of pregnancy and associated disparities; determine what interventions at patient, provider, facility, system, and community levels will have the most impact; and implement data driven recommendations.

The burden estimates presented here are applicable to the estimated 25 awardees of the cooperative agreement Preventing Maternal Deaths: Supporting Maternal Mortality Review Committees (CDC-RFA-DP19-1908); these awardees are required to compile a defined set of information about maternal deaths into MMRIA. It is estimated that information will be collected for a total of 740 pregnancy-associated deaths on average, annually, among the 25 awardees. Burden is estimated based on each awardee's total staff time to enter the abstracted data into MMRIA and enter the committee decision.

Estimated Annualized Burden Hours
Types of respondents | Form name | Number of respondents | Number of responses per respondent | Average hours per response (in hours) | Total burden hours
Awardees | Data abstraction | 25 | 30 | 15 | 11,250
| Committee decision | 25 | 30 | 24/60 | 300
Total |  |  |  |  | 11,550

Jeffrey M. Zirger,
Lead, Information Collection Review Office, Office of Scientific Integrity, Office of Science, Centers for Disease Control and Prevention.

[FR Doc. 2019-13055 Filed 6-19-19; 8:45 am]

BILLING CODE 4163-18-P